DEPARTMENT OF ENERGY

Federal Energy Regulatory Commission

[Project No. 4472-031]

Union Falls Hydropower, L.P.; Notice Soliciting Scoping Comments

Take notice that the following hydroelectric application has been filed with the Commission and is available for public inspection.

a. Type of Application: New Major License.

b. Project No.: 4472-031.

c. Date filed: June 30, 2022.

d. Applicant: Union Falls Hydropower, L.P. (Union Falls Hydro).

e. Name of Project: Saranac Hydroelectric Project (Saranac Project or project).

f. Location: The existing project is located on the Saranac River, in the town of Franklin in Franklin County and the town of Black Brook in Clinton County, New York.

g. Filed Pursuant to: Federal Power Act, 16 U.S.C. 791(a)-825(r).

h. Applicant Contact: Ms. Sherri Loon, Coordinator—Operations USA, Kruger Energy, 423 Brunswick Ave., Gardiner, ME 04345; phone: (207) 203-3026; email: Sherri.Loon@kruger.com; and Mr. Lewis Loon, General Manager, Operations and Maintenance—USA, Kruger Energy, 432 Brunswick Ave., Gardiner, ME 04345; phone: (207) 203-3027; email: Lewis.Loon@kruger.com.

i. FERC Contact: Joshua Dub at (202) 502-8138, or joshua.dub@ferc.gov.

j. Deadline for filing scoping comments: June 5, 2023.¹

¹ The Commission's Rules of Practice and Procedure provide that if a deadline falls on a Saturday, Sunday, holiday, or other day when the Commission is closed for business, the deadline does not end until the close of business on the next business day. 18 CFR 385.2007(a)(2). Because the 30-day deadline falls on a Sunday (i.e., June 4, 2023), the deadline is extended until the close of business on Monday, June 5, 2023.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy via U.S. Postal Service to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Saranac Hydroelectric Project (P-4472-031).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Saranac Project consists of the following existing facilities: (1) a 151-foot-long, 24-foot-high dam having a 147-foot-long spillway section with a crest elevation of 1,408.49 feet ² topped with 1-foot-high flashboards; (2) an integral, 36-foot-long, gated intake structure at the dam's north side; (3) a reservoir having a surface area of 1,630 acres and a gross storage capacity of 8,900 acre-feet at a pool elevation of 1,409.49 feet; (4) an 11-foot-diameter, 1,433-foot-long steel penstock that bifurcates into two 7-foot-diameter, 71-foot-long penstocks; (5) a surge vent; (6) a powerhouse containing two turbine-generator units with a total rated capacity of 2.6 megawatts; (7) two 4.16-kilovolt (kV) generator leads; (8) a 4.16/46-kV, 3,000-kV-amps step-up transformer bank; (9) a 90-foot-long, 46-kV transmission line; (10) a tailrace; and (11) appurtenant facilities.

² All elevations are in National Geodetic Vertical Datum of 1929.

The Saranac Project operates in a modified run-of-river mode through the use of a float control for the purpose of generating electric power, with a minimum flow of 30 cubic feet per second (cfs) in the bypassed reach from April 1 through June 30, and a minimum flow of 10 cfs during the remainder of the year. The project has an average annual generation of 745 megawatt-hours.

Union Falls Hydro does not propose changes to project facilities. Union Falls Hydro proposes to: (1) limit the maximum daily drawdown of the project impoundment to no more than 3 inches in a 24-hour period, and limit the total drawdown to 6 inches below the top of the project's flashboards, or below the spillway crest when flashboards are not present; (2) provide a minimum base flow of 165 cfs or inflow, whichever is less, at the dam year-round; (3) increase the minimum flow in the bypassed reach to 30 cfs from December 1 through March 1 and 50 cfs from March 2 through November 30; and (4) install signage for the canoe portage trail and tailrace parking area. In addition, Union Falls Hydro proposes to implement the following proposed plans: bald eagle management plan, invasive species management plan, impoundment drawdown plan, and operation compliance monitoring plan.

m. In addition to publishing the full text of this document in the Federal Register, the Commission provides all interested individuals an opportunity to view and/or print the contents of this document via the internet through the Commission's Home Page (www.ferc.gov) using the “eLibrary” link. Enter the docket number, excluding the last three digits, in the docket number field to access the document (P-4472). At this time, the Commission has suspended access to the Commission's Public Access Room. For assistance, contact FERC at FERCOnlineSupport@ferc.gov or call toll-free, (886) 208-3676 or TTY, (202) 502-8659.

n. You may also register online at http://www.ferc.gov/docs-filing/esubscription.asp to be notified via email of new filings and issuances related to this or other pending projects. For assistance, contact FERC Online Support.

o. Scoping Process: Commission staff will prepare either an environmental assessment (EA) or an environmental impact statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued May 5, 2023.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: May 5, 2023.
Kimberly D. Bose,
Secretary.

[FR Doc. 2023-10058 Filed 5-10-23; 8:45 am]

BILLING CODE 6717-01-P